DEPARTMENT OF HOMELAND SECURITY

Coast Guard

33 CFR Part 117

[Docket No. USCG-2012-0534]

Drawbridge Operation Regulation; Umpqua River, Reedsport, OR

AGENCY: Coast Guard, DHS.

ACTION: Notice of temporary deviation from regulations.

SUMMARY: The Coast Guard has issued a temporary deviation from the operating schedule that governs the US 101 Highway Bridge across the Umpqua River, mile 11.1, at Reedsport, OR. This deviation is necessary to accommodate electrical system upgrades on the bridge. This deviation allows the US 101 Umpqua River Bridge to remain in the closed position during system upgrade and maintenance.

DATES: This deviation is effective from 8 a.m. on June 25, 2012 through 5 p.m. June 28, 2012.

ADDRESSES: Documents mentioned in this preamble as being available in the docket are part of docket USCG-2012-0534 and are available online by going to http://www.regulations.gov, inserting USCG-2012-0534 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone 206-220-7282; email randall.d.overton@uscg.mil. If you have questions on viewing the docket, call Renee V. Wright, Program Manager, Docket Operations, telephone 202-366-9826.

SUPPLEMENTARY INFORMATION: The Oregon Department of Transportation has requested that the US 101 Umpqua River Bridge remain closed to vessel traffic to facilitate electrical system upgrades to the bridge's control circuitry. The US 101 Bridge crosses the Umpqua River at mile 11.1 and provides 36 feet of vertical clearance above mean high water when in the closed position. Vessels which do not require an opening of the bridge may continue to transit beneath the bridge during this maintenance period. Under normal conditions the US 101 Umpqua River Bridge operates in accordance with 33 CFR 117.893(a) which states that the draw shall open on signal if at least two hours advance notice is given. This deviation period is from 8 a.m. on June 25, 2012 through 5 p.m. June 28, 2012. The deviation allows the US 101 Umpqua River Bridge, mile 11.1, to remain in the closed position and need not open for maritime traffic from 8 a.m. June 25, 2012 through 5 p.m. June 28, 2012. The bridge shall operate in accordance to 33 CFR 117.893(a) at all other times. Waterway usage on this stretch of the Umpqua River includes vessels ranging from occasional commercial tug and barge to small pleasure craft. Mariners will be notified and kept informed of the bridge's operational status via the Coast Guard Notice to Mariners publication and Broadcast Notice to Mariners as appropriate. The draw span will be required to open, if needed, for public vessels of the United States and for vessels engaged in emergency response operations during this closure period.

In accordance with 33 CFR 117.35(e), the drawbridge must return to its regular operating schedule immediately at the end of the designated time period. This deviation from the operating regulations is authorized under 33 CFR 117.35.

Dated: June 6, 2012.
Randall D. Overton,
Bridge Administrator.

[FR Doc. 2012-14642 Filed 6-14-12; 8:45 am]

BILLING CODE 9110-04-P